DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Mary Jean Pajak, P.E., FEMA, 500 C Street, SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD) • Elevation in feet (NAVD)
ILLINOIS
St. Clair County (FEMA Docket No. D-7534)
Silver Creek:
Approximately 12,000 feet upstream of the confluence with Kaskaskia River | *396
Approximately 1.25 miles upstream of Lebanon Loyett Road | *451
———
St. Clair County (Unincorporated Areas), City of Mascoutah, City of Lebanon
Hog River:
At the confluence with Silver Creek | *418
Just upstream of Union Street | *418
———
St. Clair County (Unincorporated Areas), City of Mascoutah
Loop Creek:
At the confluence with Silver Creek | *418
Approximately 1.5 miles upstream of confluence with Silver Creek | *421
———
St. Clair County (Unincorporated Areas)
Little Silver Creek:
At the confluence with Silver Creek | *429
Approximately 1,500 feet upstream of confluence with Silver Creek | *432
———
St. Clair County (Unincorporated Areas)
Ogles Creek:
At the confluence with Silver Creek | *449
Approximately 265 feet upstream of Old Collinsville Road | *551
Wolf Branch:
Approximately 1,700 feet upstream of confluence with Richland Creek | *500
Approximately 920 feet upstream of unnamed road | *538
Schoenberger Creek:
Approximately at North 89th Street | *437
Approximately 1,500 feet upstream of State Route 161 | *482
Kaskaskia River:
At downstream corporate limits of Village of New Athens | *395
Approximately 0.78 mile upstream of Illinois Central Railroad crossing | *396
———
Village of New Athens
Ponding Areas:
Between Illinois Terminal Railroad and Camp Jackson Road | *404
Approximately 20 feet south of the intersection of Fox Meadow Lane and Paris Avenue | *404
———
Village of Cahokia
At intersection of Sterling Place and Bermuda Avenue | *422
At intersection of Countryside Drive and Acorde Drive | *422
North of Harding Ditch, west of Black Lane | *418
Approximately 1,000 feet northwest of intersection with Interstate Route 64 and State Route 157 | *422
Village of Caseyville
Between Interstate 255 and State Route 157 | *411
Approximately 600 feet southeast of the intersection of Pocket Road and State Route 15 and Missouri Avenue | *411
———
Village of Alorton
At the intersection of Lake Drive and East Side Levee and Sanitary Canal District | *414
At the intersection of Belleview Avenue and North 80th Street | *414
Approximately 1,000 feet west of the intersection of State Route 15 (New Missouri Avenue and Harding Ditch) | *411
———
City of Centreville
Approximately 1,000 feet west of Collinsville Road | *403
———
Village of Fairmont City
Approximately 700 feet east of the intersection of St. Clair Avenue and Louisville and Nashville Railroad | *417
———
Village of Washington Park
Approximately 300 feet south of the intersection of St. Clair Avenue and Louisville and Nashville Railroad | *414
Approximately 500 feet north of the intersection of St. Clair Avenue and Louisville and Nashville Railroad | *414
———
Village of Washington Park, City of East St. Louis
Approximately 500 feet northwest of intersection of Summit Avenue and Michigan Avenue | *414
Approximately 300 feet northeast of the intersection of Louisville and Nashville Railroad and Kings Highway (State Route 50) | *415
Approximately 400 feet east of intersection of Ohio Avenue and North 62nd Street | *414
Intersection of Marybelle Avenue and North 70th Street | *418
Approximately 500 feet southwest of itnersection of State Street and Terrace Drive | *414
Approximately 600 feet south of intersection of St. Clair Avenue and North 47th Street | *414
———
City of East St. Louis
North of Cahokia Canal, west of Madison Road east of Industrial Avenue | *407
Approximately 1,000 feet west of the intersection of Collinsville Road and Cookson Road | *403
At intersection of Site Road and Park Road | *411
Approximately 400 feet east of intersection of Pocket Road and Site Road | *411
At intersection of Park Drive and Major Street | *418
Approximately 800 feet west of intersection of Stowers Road and Bernia Street | *421
———
St. Clair County (Unincorporated Areas)
At intersection of Watts Street and Brinson Drive | *418
Approximately 0.5 mile east of intersection of Watts Street and Brinson Drive | *418
At intersection of Caseyville Road and Bunkum Road | *418
At intersection of North 82nd Street and Bunkum Road | *422
At intersection of Rock Springs Road and McKinley Avenue | *415
———
St. Clair County (Unincorporated Areas), Village of Washington Park
North of Old Cahokia Canal and south of County Road boundary | *403
———
St. Clair County (Unincorporated Areas), Village of Fairmont
Approximately 1,000 feet northeast of the intersection of Mullins Creek Road and Prairie du Pont Creek | *418
South of Cahokia Canal, north of CSX Transportation and southwest of Old Cahokia Canal | *403
Approximately 1,000 feet east of the intersection of Rock Springs Road and St. Clair Avenue | *415
Approximately 750 feet west of the intersection of Lake Drive and North 88th Street | *414
Approxiamtely 400 feet south of the intersection of U.S. Route 255 County Route 3 | *404
———
St. Clair County (Unincorporated Areas)
Ponding Areas (along Harding Ditch):
Approximately 700 feet southeast of the intersection of State Route 157 and Carol Street | *411
———
St. Clair County (Unincorporated Areas)
———
Village of Alorton
Maps available for inspection at the Alorton Village Hall, 4821 Bond Avenue, Alorton, Illinois.
———
City of Belleville
Maps available for inspection at the Belleville Department of Economic Development & Planning, 101 South Illinois Street, Belleville, Illinois.
———
Village of Cahokia
Maps available for inspection at the Cahokia Code Enforcement Department, 201 West 4th Street, Cahokia, Illinois
———
Village of Caseyville
Maps available for inspection at the Caseyville Village Hall, 10 West Morris Street, Caseyville, Illinois.
———
City of Centreville
Maps available for inspection at the Centreville City Hall, 5800 Bond Avenue, Centreville, Illinois.
———
City of East St. Louis
Maps available for inspection at the East St. Louis Municipal Building, 301 River Park Drive, East St. Louis, Illinois.
———
Village of Fairmont City
Maps available for inspection at the Fairmont City Village Hall, 2601 North 41st Street, Fairmont City, Illinois.
———
City of Fairview Heights
Maps available for inspection at the City of Fairview Heights Municipal Building, 10025 Bunkum Road, Fairview Heights, Illinois.
———
City of Lebanon
Maps available for inspection at the Lebanon City Hall, 312 West St. Louis Street, Lebanon, Illinois.
———
City of Mascoutah
Maps available for inspection at the Mascoutah City Hall, #3 West Main Street, Mascoutah, Illinois.
———
Village of New Athens
Maps available for inspection at the New Athens Village Hall, 905 Spotsylvania Street, New Athens, Illinois.
———
St. Clair County (Unincorporated Areas)
Maps available for inspection at the St. Clair County Department of Building and Zoning, 10 Public Square, Belleville, Illinois.
———
Village of Swansea
Maps available for inspection at the Swansea Government Center, 1400 North Illinois Street, Swansea, Illinois.
———
Village of Washington Park
Maps available for inspection at the Washington Park Village Hall, 5218 North Park Drive, Washington Park, Illinois.
INDIANA
Allen County (FEMA Docket No. D-7534)
Cedar Creek:
Approximately 0.5 mile upstream of State Route 1 | *779
Approximately 790 feet downstream of North County Line Road | *816
———
Allen County (Unincorporated Areas), Town of Leo-Cedarville
Little Cedar Creek:
At the confluence with Cedar Creek | *812
Approximately 0.41 mile upstream of Fitch Road | *819
———
Allen County (Unincorporated Areas)
Maumee River:
At a point approximately 0.3 mile downstream of Scipio Road | *725
At a point approximately 0.2 mile downstream of Bruick Road | *745
———
Allen County (Unincorporated Areas)
St. Joseph River:
At a point approximately 0.85 mile upstream of Halter Road | *779
Approximately 0.2 mile upstream of Roth Road | *788
———
Allen County (Unincorporated Areas), City of Fort Wayne
St. Marys River:
Approximately 530 feet upstream of Hoagland Road | *775
Approximately 0.5 mile upstream of Hoagland Road | *775
———
Allen County (Unincorporated Areas)
Fairfield/Harber Ditch:
Approximately 0.1 mile upstream of Norfolk Southern Railway | *763
Approximately 0.26 mile upstream of Lower Huntington Road | *773
———
Allen County (Unincorporated Areas), City of Fort Wayne
Allen County (Unincorporated Areas)
Maps available for inspection at the Allen County Planning Service Department, 1 East Main Street, Room 630, City/County Building, Fort Wayne, Indiana.
———
City of Fort Wayne
Maps available for inspection at the Fort Wayne Planning Department, 1 Main Street, 8th Floor, City/County Building, Fort Wayne, Indiana.
Town of Leo-Cedarville
Maps available for inspection at the Leo-Cedarville Town Office, 14435 State Road One, Leo, Indiana.
MISSISSIPPI
Rankin County
Eutacutachee Creek:
Approximately 250 feet from the confluence of Pelahatchie Creek | •333
Approximately 760 feet upstream of International Paper Road | •387
———
Rankin County (Unincorporated Areas)
Eutacutachee Creek Tributary 1:
At the confluence with Eutacutachee Creek | •360
Approximately 7,070 feet upstream of the confluence with Eutacutachee Creek | •383
———
Rankin County (Unincorporated Areas)
Eutacutachee Creek Tributary 2:
At the confluence with Eutacutachee Creek | •372
Approximately 4,763 feet upstream of the confluence with Eutacutachee Creek | •380
———
Rankin County (Unincorporated Areas)
Eutacutachee Creek Tributary 3:
At the confluence with Eutacutachee Creek | •360
Approximately 0.7 mile upstream of Rankin Road | •387
———
Rankin County (Unincorporated Areas)
Eutacutachee Creek Tributary 4:
At the confluence with Eutacutachee Creek | •355
Approximately 100 feet upstream of Gulde-Shiloh Road | •390
———
Rankin County (Unincorporated Areas)
Prairie Branch Tributary 1:
At the confluence with Prairie Branch Canal | •279
Approximately 800 feet upstream of U.S. Highway 475 | •284
———
City of Flowood
Pelahatchie Bay Unnamed Tributary:
At Pearl River Valley Water Supply District corporate limits | •307
Approximately 510 feet upstream of Pearl River Valley Water Supply District corporate limits | •307
———
Rankin County (Unicorporated Areas)
Pearl River Tributary 2:
At upstream side of Old U.S. Highway 49 | ÷ 270
Approximately 0.4 mile upstream of U.S. Highway 49 | ÷ 270
———
City of Richland
Woodrun Creek:
Approximately 175 feet downstream of Interstate Route 20 | ÷ 337
Approximately 125 feet upstream of Mississippi Salvage Road | ÷ 360
———
City of Brandon, City of Pearl
Terrapin Skin Creek:
Approximately 0.5 mile downstream of North Deer Ridge | ÷ 371
Approximately 0.7 mile upstream of North Deer Ridge | ÷ 395
———
Rankin County (Unincorporated Areas), City of Brandon
Hog Creek:
Approximately 650 feet upstream of State Route 475 | ÷ 371
Approximately 200 feet upstream of State Highway 468 | ÷ 395
———
City of Flowood
Richland Creek:
Approximately 1.4 miles upstream of State Highway 471 | ÷ 344
Approximately 1.0 mile upstream of U.S. Highway 80 | ÷ 373
———
Rankin County (Unincorporated Areas), City of Brandon
Pelahatchie Creek Tributary 1:
Just upstream of State Route 43 | ÷ 351
Approximately 375 feet upstream of Ragan Road | ÷ 370
———
Town of Pelahatchie
Pearl River Tributary 3:
Approximately 3,000 feet downstream of U.S. Highway 25 | • 282
Approximately 150 feet upstream of Flowood Drive | • 282
———
City of Flowwod
Rankin County (Unincorporated Areas)
Maps available for inspection at the Rankin County Building, 211 East Government, Brandon, Mississippi.
———
City of Brandon
Maps available for inspection at the Brandon City Hall, 201 North College Street, Brandon, Mississippi.
———
City of Flowood
Maps available for inspection at the Flowood City Hall, 2101 Airport Road, Flowood, Mississippi.
———
City of Pearl
Maps available for inspection at the Pearl City Hall, 2420 Old Brandon Road, Pearl, Mississippi.
———
Town of Pelahatchie
Maps available for inspection at the Pelahatchie City Hall, 705 Second Street, Pelahatchie, Mississippi.
———
City of Richland
Maps available for inspection at the Richland City Hall, 380 Scarborough Street, Richland, Mississippi.

(Catalog of Federal Domestic Assistance No. 83.100, “Flood Insurance.”)
Dated: June 18,2003.
Anthony S. Lowe,
Mitigation Division Director, Emergency Preparedness and Response Directorate.

[FR Doc. 03-16292 Filed 6-26-03; 8:45 am]

BILLING CODE 6718-04-M